DEPARTMENT OF JUSTICE

Notice of Lodging of Proposed Consent Decree Under the Comprehensive Environmental Response, Compensation and Liability Act

On March 27, 2014, the Department of Justice lodged two proposed consent decrees with the United States District Court for the District of New Jersey in the lawsuit entitled United States v. Clifton 2003, et al., Civil Action No. 2:14-CV-01918-ES-MAH.

The United States filed this lawsuit against Clifton 2003, LLC (Clifton), The Hampshire Generational Fund, LLC (Hampshire), and WEA Enterprises Co., Inc. (WEA) under the Comprehensive Environmental Response, Compensation and Liability Air Act (CERCLA), seeking to recover response costs that EPA incurred in removal actions at the Abrachem Chemical Superfund Site in Clifton, New Jersey. The complaint also asserts claims against Clifton and Hampshire under the Federal Debt Collection Procedures Act (FDCPA) and the Federal Priority Statute (FPS), based on Clifton's sale of its property and alleged fraudulent transfer of the assets to Hampshire.

The United States entered into two separate consent decrees to resolve the claims alleged in the complaint. Under its decree, WEA will pay $257,000, in exchange for a covenant not to sue pursuant to CERCLA Section 107 to recover response costs incurred through the date of entry of the decree. Under their decree, Clifton and Hampshire will pay $1.9 million, in exchange for a covenant not to sue pursuant to CERCLA Section 107, the FDCPA, or the FPS to recover response costs incurred through the date of entry of the decree. Together, the decrees recover a total of $2,157,000 toward the approximately $2.6 million that the United States incurred at the site.

The publication of this notice opens a period for public comment on the consent decrees. Comments should be addressed to the Assistant Attorney General, Environment and Natural Resources Division, and should refer to United States v. Clifton 2003, LLC, et al., D.J. Ref. No. 90-11-3-10618. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decrees may be examined and downloaded at this Justice Department Web site: http://www.usdoj.gov/enrd/Consent_Decrees.html. We will provide a paper copy of the consent decrees upon written request and payment of reproduction costs. Please mail your request and payment to: Consent Decree Library, U.S. DOJ—ENRD, P.O. Box 7611, Washington, DC 20044-7611.

Please enclose a check or money order for $4.50 (25 cents per page reproduction cost) for either the Clifton/Hampshire decree or the WEA decree (specifying which decree is being requested), or $9.00 for both decrees, payable to the United States Treasury.

Robert E. Maher, Jr.,
Assistant Section Chief, Environmental Enforcement Section, Environment and Natural Resources Division.

[FR Doc. 2014-07313 Filed 4-1-14; 8:45 am]

BILLING CODE 4410-15-P